NATIONAL CREDIT UNION ADMINISTRATION

Agency Information Collection Activities: Proposed Collection; Proof of Concept Application for New Charter Organizing Groups

AGENCY: National Credit Union Administration (NCUA).

ACTION: Notice and request for comment.

SUMMARY: The National Credit Union Administration (NCUA), as part of a continuing effort to reduce paperwork and respondent burden, invites the general public and other Federal agencies to comment on the following extension of a currently approved collection, as required by the Paperwork Reduction Act of 1995.

DATES: Written comments should be received on or before June 17, 2022 to be assured consideration.

ADDRESSES: Interested persons are invited to submit written comments on the information collection to Dawn Wolfgang, National Credit Union Administration, 1775 Duke Street, Suite 6032, Alexandria, Virginia 22314; email at PRAComments@NCUA.gov. Given the limited in-house staff because of the COVID-19 pandemic, email comments are preferred.

FOR FURTHER INFORMATION CONTACT: Address requests for additional information to Dawn Wolfgang at the address above or telephone 703-548-2279.

SUPPLEMENTARY INFORMATION: OMB Number: 3133-0202.

Title: Proof of Concept Application (POC) for New Charter Organizing Groups.

Type of Review: Extension of a currently approved collection.

Abstract: The Office of Credit Union Resources and Expansion (CURE) is responsible for the review and approval of charter applications submitted by organizing groups. CURE has implemented a charter modernization process to improve the quality of charter applications received. This will help ensure organizing groups submit a well-thought out, well-developed charter plan to minimize the back-and-forth communication and improve overall chartering processing times. CURE management implemented the Proof of Concept (POC) data collection through the CyberGrants system, which documents the four most critical elements for establishing a new charter. This is “Phase 1” of the process. The CyberGrants system is accessed online.

The four areas are usually the greatest challenge for organizers to accomplish. When the organizers successfully address the four critical elements, organizing groups are invited to proceed to “Phase 2”, submission of most remaining charter documents and plans.

The “Phase 1” data is reviewed by NCUA to determine the adequacy of a group's chartering concept and to provide guidance as needed. The purpose of this information collection is to identify the level of understanding an organizing group has before they make a formal charter application submission as prescribed by Appendix B to 12 CFR part 701 (12 U.S.C. 1758, 1759).

Affected Public: Private Sector: Not-for-profit institutions.

Estimated No. of Respondents: 26.

Estimated No. of Responses per Respondent: 1.

Estimated Total Annual Responses: 26.

Estimated Burden Hours per Response: 4.

Estimated Total Annual Burden Hours: 104.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Melane Conyers-Ausbrooks, Secretary of the Board, the National Credit Union Administration, on April 12, 2022.

Dated: April 13, 2022.
Dawn D. Wolfgang,
NCUA PRA Clearance Officer.

[FR Doc. 2022-08223 Filed 4-15-22; 8:45 am]

BILLING CODE 7535-01-P